DEPARTMENT OF TRANSPORTATION

Federal Motor Carrier Safety Administration

[Docket No. FMCSA-2008-0078]

Commercial Driver's License (CDL) Standards; Rotel North American Tours, LLC; Application for Renewal of Exemption

AGENCY: Federal Motor Carrier Safety Administration (FMCSA), DOT.

ACTION: Notice of final disposition.

SUMMARY: FMCSA renews an exemption held by 22 drivers of Rotel North American Tours, LLC (Rotel) to enable them to operate commercial motor vehicles (CMVs) in the U.S. with German commercial driver's licenses (CDLs) and without CDLs issued by one of the States. Rotel conducts tours of the U.S. on a seasonal basis for Europeans. It uses motor coaches that are equipped with onboard sleeping and eating facilities. The drivers, in addition to operating the CMVs, provide oral commentary in German. Rotel previously was able to conduct these operations without exemption because its drivers were able to obtain (and renew) non-resident CDLs from certain States. However, there are currently no States willing to issue non-resident CDLs.

DATES: This exemption is effective from July 31, 2010, through July 30, 2012.

FOR FURTHER INFORMATION CONTACT: Mr. Robert F. Schultz, Jr., FMCSA Driver and Carrier Operations Division, Office of Bus and Truck Standards and Operations. Telephone: 202-366-4325. E-mail: MCPSD@dot.gov.

SUPPLEMENTARY INFORMATION:

Background

Under 49 CFR part 383, operators of CMVs are required to possess a valid CDL issued by one of the States of the U.S. (49 CFR 383.23). Under 49 U.S.C. 31315 and 31136(e), FMCSA may grant an exemption from certain regulatory requirements, including the CDL requirements of 49 CFR part 383 for a 2-year period if it finds “such exemption would likely achieve a level of safety that is equivalent to, or greater than, the level of safety that would be achieved absent such exemption” (49 CFR 381.305(a)).

Rotel's Request for Exemption

Rotel, headquartered in Terre Haute, Indiana, conducts bus tours of the United States, Canada, and Mexico for Europeans from the end of March through the middle of October each year. It currently has 22 bus drivers and 11 customized buses dedicated to these operations. Rotel states that it offers a unique touring experience in that each of its buses is equipped with a galley that allows Rotel to offer dining with European cuisine. In addition, each bus is equipped with sleeping accommodations for the passengers.

Rotel drivers operate the buses and deliver oral commentary in German during the tour. The Rotel buses are CMVs as defined in 49 CFR 383.5. Therefore, the operators of the buses must possess a valid U.S. CDL (49 CFR 383.23). At one time, Rotel's German drivers could obtain a non-resident CDL in most States. However, Rotel reports that because of heightened security concerns across the U.S., no State currently issues non-resident CDLs. Rotel requests that FMCSA continue to exempt its 22 bus drivers from the requirement that they possess a CDL issued by a State, so that the drivers may operate these 11 buses without a U.S. CDL on a seasonal basis for a period of 2 years.

Rotel's drivers are residents and citizens of Germany. They hold German CDLs, but the German CDL is not recognized in the U.S. Rotel prefers to use native German drivers to conduct the tours. Rotel experimented with using other drivers, but found that the quality of its tour service was affected adversely.

Rotel believes that each of these drivers possesses sufficient knowledge, skills, and experience to ensure a level of safety that is equivalent to, or greater than, the level of safety that would be obtained by complying with the requirement for a U.S. CDL. A copy of Rotel's application for exemption is available for review in the docket for this notice.

Method To Ensure an Equivalent or Greater Level of Safety

Drivers applying for a German-issued CDL must undergo a training program and pass knowledge and skills tests. FMCSA has previously determined in this matter that the process for obtaining a German-issued CDL adequately assesses the driver's ability to operate CMVs in the U.S. safely. Therefore, the process for obtaining a German-issued CDL is considered to be comparable to, or as effective as, the requirements of 49 CFR part 383 for obtaining a CDL in the U.S.

Comments

On June 14, 2010, FMCSA published notice of this application for renewal, and asked for public comment (75 FR 33661). No comments were received in the public docket by the close of the comment period.

FMCSA Decision

The FMCSA has evaluated Rotel's application for renewal, and believes that Rotel's overall safety performance as reflected in its 2010 FMCSA “satisfactory” rating, as well as the knowledge and skills possessed by these drivers as a result of the training program to which all German CDL applicants are exposed, ensure that each of these 22 drivers will likely achieve a level of safety that is equivalent to, or greater than, the level of safety achieved without the exemption (49 CFR 381.305(a)). The Agency has granted the exemption for a two-year period, from July 31, 2010, through July 30, 2012, for the following Rotel drivers: Josef Dangl, Reinfried Dangl, Herbert Erber, Helmut Erbersdobler, Wilhelm Fuchs, Ludwig Gerlsberger, Christian Hafner, Peter Hess, Michael Huber, Gerhard Kinateder, Hermann Lichtenauer, Franz Manzinger, Fabian Maurer, Jens Radloff, Rudolf Ramsl, Paul Schlögl, Walter Schreiner, Josef Stockinger, Josef Vogl, Klaus Weber, Markus Wölfl, and Norbert Zechmeister.

Terms and Conditions of the Exemption

This exemption is subject to the following terms and conditions: (1) That each driver is subject to the drug and alcohol regulations of 49 CFR part 382, including testing, (2) that each driver is subject to the same driver disqualification rules under 49 CFR parts 383 and 391 that apply to other CMV drivers in the United States, (3) that each driver keep a copy of the exemption on the vehicle at all times, (4) that Rotel notify FMCSA in writing of any accident, as defined in 49 CFR 390.5, involving these drivers, (5) that Rotel notify FMCSA in writing if any of these drivers is convicted of a disqualifying offense identified in section 383.51 or 391.15 of the FMCSRs.

In accordance with 49 U.S.C. 31315 and 31136(e), the exemption will be valid for 2 years unless earlier revoked by the FMCSA. The exemption will be revoked if: (1) The Rotel drivers fail to comply with the terms and conditions of the exemption, (2) the exemption results in a lower level of safety than was maintained before it was granted or (3) the exemption becomes inconsistent with the goals and objectives of 49 U.S.C. 31315 and 31136. Interested parties possessing information that would demonstrate that any or all of these drivers are not achieving the requisite statutory level of safety should immediately notify FMCSA. The Agency will evaluate any such information and, if safety is being compromised or if the continuation of the exemption is not consistent with 49 U.S.C. 31315(b)(4) and 31136(e), will take immediate steps to revoke the exemption of the driver(s) in question, as well as Rotel's exemption, if warranted.

During the period the exemption is in effect, no State shall enforce any law or regulation that conflicts with or is inconsistent with the exemption with respect to a person operating under the exemption (49 U.S.C. 31315(d)).

Issued on: July 26, 2010.
Larry W. Minor,
Associate Administrator for Policy and Program Development.

[FR Doc. 2010-18820 Filed 7-30-10; 8:45 am]

BILLING CODE 4910-EX-P